Title 3—

The President

Proclamation 10063 of August 25, 2020

Women's Equality Day, 2020

By the President of the United States of America

A Proclamation

Recently, our Nation celebrated the 100th anniversary of the ratification of the 19th Amendment to our Constitution. On the commemoration of this historic day, I was proud to issue a Proclamation honoring the women's suffrage movement and sign a full pardon for one of its greatest leaders, Susan B. Anthony, who was unjustly convicted for voting on account of her sex. On Women's Equality Day, we remember the trailblazers like Anthony who worked tirelessly to achieve a more just and equal United States, and we recognize the myriad ways in which women contribute to our society and strengthen our country.

Women are an essential part of the political, economic, and social fabric of our Nation. All American women—regardless of the role they play in the workplace or at home—contribute every day to the success of our great country. In addition to being homemakers, caregivers, mothers, and counselors, along with a host of other important roles, women also fill critical jobs in every sector of our economy, contributing to the financial security of their families and our Nation. Currently, more than 200,000 women serve in our Armed Forces, and tens of thousands more courageously protect our communities as first responders. The women who call our Nation home epitomize the grit, determination, and work ethic that is indicative of the American Spirit, and their wisdom and compassion are among the greatest virtues of our society.

Recognizing that women contribute to the strength and security of our Nation, my Administration will always make supporting women and working families a top priority. In December of last year, we secured 12 weeks of paid family leave for Federal workers, and we continue to call on the Congress to pass a similar paid family leave program nationwide. Additionally, we doubled the child tax credit through the historic 2017 Tax Cuts and Jobs Act and signed legislation providing for record funding for the Child Care and Development Block Grant, supporting working mothers and families throughout the United States. We have also worked to expand opportunities for women globally through policies like the Women's Global Development and Prosperity (W-GDP) Initiative, the first ever whole-of-government approach to increase economic opportunities for women worldwide. W-GDP helped enhance economic opportunities for 12 million women in its first year and has a goal of reaching 50 million women by 2025. My Administration recognizes that by empowering women at home and abroad, we are safeguarding the cultural foundation of our Nation and creating a more prosperous future for all global citizens.

On Women's Equality Day, we honor all of the women who inspire and improve our Nation. Their talent and hard work strengthen our economy, our families, and our communities, and sustain our unique American way of life.

NOW, THEREFORE, I, DONALD J. TRUMP, President of the United States of America, by virtue of the authority vested in me by the Constitution and the laws of the United States, do hereby proclaim August 26, 2020, as Women's Equality Day. I call upon the people of the United States to celebrate the achievements of women and observe this day with appropriate programs and activities.

IN WITNESS WHEREOF, I have hereunto set my hand this twenty-fifth day of August, in the year of our Lord two thousand twenty, and of the Independence of the United States of America the two hundred and forty-fifth.

[FR Doc. 2020-19208

Filed 8-27-20; 11:15 am]

Billing code 3295-F0-P